DEPARTMENT OF EDUCATION

National Assessment Governing Board

Meeting; Correction

AGENCY: National Assessment Governing Board, Department of Education.

ACTION: Notice; correction.

SUMMARY: The National Assessment Governing Board (Governing Board) published a document in the Federal Register on Friday, May 3, 2024 announcing the schedule and proposed agenda of the May 16-17, 2024 quarterly meeting of the Governing Board. The meeting agenda has been revised to reflect the below changes to the Friday sessions of the Governing Board meeting.

FOR FURTHER INFORMATION CONTACT: Angela Scott (202) 357-7502.

SUPPLEMENTARY INFORMATION: In the Federal Register of May 3, 2024, in FR Doc. 2024-09695, at 89 FR 36782-236783, the agenda has been revised to reflect new times for these meetings. The NCES Commissioner's update will now be held on Friday, May 17, 2024, from 10:30 a.m. to 11:00 a.m., the NAEP 2024 Administration update and discussion will be held from 11:00 a.m. to 11:45 a.m., and the NAEP budget and contracts update will be held from 12:45 p.m. to 2:30 p.m. The meeting will end at 2:30 p.m. which is 15 minutes later than the originally published end time of 2:15 p.m.

Lesley A. Muldoon,
Executive Director, National Assessment Governing Board (NAGB), U.S. Department of Education.

[FR Doc. 2024-10505 Filed 5-13-24; 8:45 am]

BILLING CODE 4000-01-P